DEPARTMENT OF COMMERCE

National Oceanic and Atmospheric Administration

50 CFR Part 648

[Docket No. 250311-0035]

RIN 0648-BN45

Fisheries of the Northeastern United States; Framework Adjustment 39 to the Atlantic Sea Scallop Fishery Management Plan

AGENCY: National Marine Fisheries Service (NMFS), National Oceanic and Atmospheric Administration (NOAA), Commerce.

ACTION: Proposed rule; request for comments.

SUMMARY: NMFS proposes to approve and implement Framework Adjustment 39 to the Atlantic Sea Scallop Fishery Management Plan (FMP) that establishes specifications and other management measures for fishing years 2025 and 2026, including fishing effort allocation into access areas, modifying when areas open to optimize yield and minimize bycatch, and closures to protect juvenile scallops. Vessels with a limited access general category B permit may transit outside of the Northern Gulf of Maine with scallops onboard. Research set-aside program regulations are clarified. This action is necessary to prevent overfishing and improve resource yield-per-recruit and management of the fishery.

DATES: Comments must be received by April 2, 2025.

ADDRESSES: The New England Fishery Management Council (Council) has prepared a draft environmental assessment (EA) for this action that describes the proposed measures in Framework 39 and other considered alternatives and analyzes the impacts of the proposed measures and alternatives. The Council submitted a draft of Framework 39 to NMFS that includes the draft EA, a description of the Council's preferred alternatives, the Council's rationale for selecting each alternative, and an Initial Regulatory Flexibility Analysis (IRFA). Copies of the draft of Framework 39, the draft EA, the IRFA, and information on the economic impacts of this proposed rulemaking are available upon request from Dr. Cate O'Keefe, Executive Director, New England Fishery Management Council, 50 Water Street, Newburyport, MA 01950 and accessible via the internet in documents available at: https://www.nefmc.org/library/scallop-framework-39.

A plain language summary of this proposed rule is available at https://www.regulations.gov/docket/NOAA-NMFS-2024-0145. You may submit comments on this document, identified by NOAA-NMFS-2024-0145, by the following method:

Electronic Submission: Submit all electronic public comments via the Federal e-Rulemaking Portal. Go to https://www.regulations.gov and enter NOAA-NMFS-2024-0145 in the Search box (note: copying and pasting the FDMS Docket Number directly from this document may not yield search results). Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Emily Keiley, Fishery Policy Analyst, 978-281-9116, email: emily.keiley@noaa.gov.

SUPPLEMENTARY INFORMATION:

Background

The scallop fishery's management unit ranges from the shorelines of Maine through North Carolina to the outer boundary of the Exclusive Economic Zone. The Atlantic Sea Scallop FMP, established in 1982, includes a number of amendments and framework adjustments that have revised and refined the fishery's management. The New England Fishery Management Council sets scallop fishery catch limits and other management measures through specification or framework adjustments that occur annually or biennially. The Council adopted Framework Adjustment 39 to the Atlantic Sea Scallop FMP on December 5, 2024. Council action on Framework 39 could not be taken until the December meeting because the data and scientific analysis required to support the action was not complete and available until the end of November 2024. Each year the scallop resource is surveyed and area-specific estimates of scallop biomass are produced to support the dynamic management system. These surveys, resulting data, and analysis are critical to the development of science-driven allocations. The Council submitted a draft of the framework, including the Initial Regulatory Flexibility Act analysis for NMFS review and approval on December 20, 2024. This action proposes to approve and implement Framework 39, which establishes scallop specifications and other measures for fishing years 2025 and 2026, including changes to the catch, effort, and quota allocations and adjustments to the rotational area management program for fishing year 2025, and establishes default specifications for fishing year 2026, as recommended by the Council.

NMFS proposes to implement these Framework 39 measures by the April 1 start of fishing year 2025. If NMFS implements these measures after the start of the fishing year, the default allocation measures currently established for fishing year 2025 will go into effect on April 1, 2025. The default allocations are significantly lower than the allocations proposed in Framework 39. Delay of this action beyond the April 1 start of the fishing year would result in negative social and economic impacts to the scallop industry. Pursuant to section 303(c) of the Magnuson-Stevens Fishery Conservation and Management Act (Magnuson-Stevens Act), this proposed rule is deemed necessary and appropriate,

Specification of Scallop Overfishing Limit (OFL), Acceptable Biological Catch (ABC), Annual Catch Limits (ACL), Annual Catch Targets (ACT), Annual Projected Landings (APL) and Set-Asides for the 2025 Fishing Year, and Default Specifications for Fishing Year 2026

The Council set the proposed OFL based on a fishing mortality rate (F) of 0.61, equivalent to the F threshold updated through the Northeast Fisheries Science Center's most recent scallop benchmark stock assessment that was completed in September 2020 (NEFSC, 2020). The proposed ABC and the equivalent total ACL for each fishing year are based on an F of 0.45, which is the F associated with a 25-percent probability of exceeding the OFL. The Council's Scientific and Statistical Committee (SSC) recommended scallop fishery ABCs of 39.5 million pounds (lb; 17,901 metric tons (mt)) for 2025 and 39.1 million lb (17,745 mt) for the 2026 fishing year, after accounting for discards and incidental mortality. In support of the Council's development of the next framework adjustment, the SSC will reevaluate the best available scientific information and, if warranted by the science at that time, the SSC may recommend modifications to the ABC for the 2026 fishing year.

Table 1 outlines the proposed scallop fishery catch limits. After deducting the incidental target total allowable catch (TAC), the research set-aside (RSA), and the observer set-aside, the remaining ACL available to the fishery is allocated according to the following fleet proportions established in Amendment 11 to the Atlantic Sea Scallop FMP (72 FR 20090, April 14, 2008): 94.5 percent is allocated to the limited access scallop fleet (i.e., the larger “trip boat” fleet); 5 percent is allocated to the limited access general category (LAGC) individual fishing quota (IFQ) fleet (i.e., the smaller “day boat” fleet); and the remaining 0.5 percent is allocated to limited access scallop vessels that also have LAGC IFQ permits. Amendment 15 (76 FR 43746, July 21, 2011) specified that buffers to account for management uncertainty are not necessary in setting the LAGC ACLs (i.e., the LAGC ACL is equal to the LAGC ACT). For the limited access fleet, the management uncertainty buffer is based on the F associated with a 75-percent probability of remaining below the F associated with ABC/ACL, which, using the updated Fs applied to the ABC/ACL, now results in an F of 0.39. Amendment 21 (87 FR 1688, January 12, 2023) modified the ACL flowchart to account for the scallop biomass in the Northern Gulf of Maine (NGOM) as part of the legal limits in the fishery by adding biomass from the area into calculations of the OFL and ABC. That action moved the accounting of the NGOM ACL from only within the OFL into the OFL and ABC/ACL for the entire fishery. In addition, Amendment 21 created the NGOM Set-Aside to support a directed LAGC fishery (including NGOM and LAGC IFQ permitted vessels) in the NGOM Management Area.

Table 1—Scallop Catch Limits (mt) for Fishing Years 2025 and 2026 for the Limited Access and LAGC IFQ Fleets
Catch limits | 2025 (mt) | 2026 (mt) ¹
OFL | 28,970 | 30,031
ABC/ACL (discards removed) | 17,901 | 17,745
Incidental Landings | 23 | 23
RSA | 578 | 578
Observer Set-Aside | 179 | 177
NGOM Set-Aside | 306 | 230
ACL for fishery | 16,815 | 16,736
Limited Access ACL | 15,890 | 15,816
LAGC Total ACL | 925 | 920
LAGC IFQ ACL (5 percent of ACL) | 841 | 837
Limited Access with LAGC IFQ ACL (0.5 percent of ACL) | 84 | 84
Limited Access ACT | 13,771 | 13,707
APL (after set-asides removed) | 8,180 | (¹)
Limited Access APL (94.5 percent of APL) | 7,730 | (¹)
Total IFQ Annual Allocation (5.5 percent of APL)² | 450 | 337
LAGC IFQ Annual Allocation (5 percent of APL)² | 409 | 307
Limited Access with LAGC IFQ Annual Allocation (0.5 percent of APL) ² | 41 | 31
¹ The catch limits for the 2026 fishing year are subject to change through a future specifications action or framework adjustment. This includes the setting of an APL for 2026 that will be based on the 2025 annual scallop surveys.
² As a precautionary measure, the 2026 IFQ and annual allocations are set at 75 percent of the 2025 IFQ Annual Allocations.

Research Set-Aside

This action would deduct 1.275 million lb (578 mt) of scallops annually for 2025 and 2026 from the ABC for use as the Scallop RSA to fund scallop research. Vessels participating in Scallop RSA are compensated through the sale of scallops harvested under RSA projects. Of the 1.275 million-lb (578-mt) allocation, NMFS has already allocated 275,181 lb (124,820 kg) to previously-funded multi-year projects as part of the 2024 RSA awards process. NMFS is reviewing proposals submitted for consideration of 2025 RSA awards and will be selecting projects for funding in the near future.

Of the 1.275 million lb (578 mt) of scallops set aside for 2025 RSA, up to half (625,000 lb, 283.5 mt) can be harvested from the access areas (Areas I and II). No limit will be set on the amount that can be harvested from open areas. The cap on access area RSA harvest is intended to spread out compensation fishing between access and open areas to prevent depletion of the access areas while allowing some access to ensure the viability of the RSA program.

This action allows vessels participating in RSA projects to harvest RSA compensation from the open area and the Area I and II Scallop Rotational Areas. All vessels are prohibited from harvesting RSA compensation pounds in all other access areas. Vessels are prohibited from fishing for RSA compensation in the NGOM, unless the vessel is fishing on an RSA compensation trip using NGOM RSA allocation that was awarded to an RSA project. Lastly, Framework 39 prohibits the harvest of RSA from any rotational area under default 2026 measures. At the start of the 2026 fishing year, RSA compensation may only be harvested from open areas. The Council will re-evaluate this default prohibition measure in the action that would set final 2026 specifications.

Observer Set-Aside

This action would also deduct one percent of the ABC for the industry-funded observer program to help defray the cost to scallop vessels that carry an observer. The observer set-aside is 394,627 lb (179 mt) for 2025 and 390,218 lb (177 mt) for 2026. The Council may adjust the 2026 observer set-aside when it develops specific, non-default measures for 2026.

Open Area Days-at-Sea (DAS) Allocations

This action would implement vessel-specific DAS allocations for each of the three limited access scallop DAS permit categories (i.e., full-time, part-time, and occasional) for 2025 and 2026 (table 2). Proposed 2025 DAS allocations are more than those allocated to the limited access fleet in 2024. Framework 39 would set 2026 DAS allocations at 75 percent of fishing year 2025 DAS allocations as a precautionary measure. This is to avoid over-allocating DAS to the fleet in the event that the 2026 specifications action is delayed past the start of the 2026 fishing year. The proposed allocations in table 2 exclude any DAS deductions that are required if the limited access scallop fleet exceeds its 2024 sub-ACL.

Table 2—Scallop Open Area DAS Allocations for 2025 and 2026
Permit category | 2025 | 2026 (default)
Full-Time | 24 | 18
Part-Time | 9.6 | 7.2
Occasional | 2.0 | 1.5

If NMFS implements these Framework 39 measures after the April 1 start of fishing year 2025, default DAS allocations, which were established in Framework Adjustment 38 to the Atlantic Sea Scallop FMP (89 FR 20341, March 22, 2024), would go into effect on April 1, 2025. Under the existing default DAS allocations, full-time vessels would receive 15 DAS, part-time vessels would receive 6 DAS, and occasional vessels would receive 1.25 DAS. NMFS will notify all limited access permit holders of both default and Framework 39 DAS allocations so that vessel owners know what mid-year adjustments would occur should Framework 39 be approved and implemented after April 1, 2025.

Changes to Fishing Year 2025 Sea Scallop Rotational Area Program—Closed Areas

Framework 39 would close Nantucket Lightship-North and South (table 3) and the Elephant Trunk (table 4). Closure of the Nantucket Lightship area is intended to optimize growth of juvenile scallops observed in the area to support future rotational access. In the mid-Atlantic, a closure of the Elephant Trunk is intended to protect a strong recruitment event detected by the 2024 surveys; these scallops are currently too small to harvest, closure of the area is intended to allow them to grow while reducing incidental mortality that would occur if the area were open to fishing.

Table 3—Nantucket Lightship Scallop Rotational Area
Point | Latitude | Longitude
NL1 | 40° 20.0′ N | 69° 30.0′ W
NL2 | 40° 20.0′ N | 68° 48.0′ W
NL3 | 40° 33.0′ N | 68° 48.0′ W
NL4 | 40° 33.0′ N | 69° 00.0′ W
NL5 | 40° 50.0′ N | 68° 60.0′ W
NL6 | 40° 50.0′ N | 69° 30.0′ W
NL1 | 40° 20.0′ N | 69° 30.0′ W

Table 4—Elephant Trunk Scallop Rotational Area
Point | Latitude | Longitude
ET1 | 38°50.0′ N | 74°20.0′ W
ET2 | 38°50.0′ N | 73°30.0′ W
ET3 | 38°10.0′ N | 73°30.0′ W
ET4 | 38°10.0′ N | 74°20.0′ W
ET1 | 38°50.0′ N | 74°20.0′ W

Changes to Fishing Year 2025 Sea Scallop Rotational Area Program—Open Access Areas

The 2024 scallop surveys show that Area I and Area II access areas hold higher densities of larger scallops and can support rotational fishing in 2025. Framework 39 would keep the Area II Scallop Rotational Area open for fishing year 2025 (table 5). In addition, it would open the Area I Rotational Area (table 6) to scallop fishing as part of the Rotational Access Area Program.

The continued expansion of the Area II boundary to include Closed Area II Extension will allow the fishery to target relatively high densities of exploitable biomass and to spread effort out across a larger area. Most scallops in the Area II access area are exploitable and have supported access area fishing for several years.

For fishing year 2025, Framework 39 would combine the areas formally known as Area I, Area I-Sliver, and Area I-Quad to create the Area I Rotational Access Area (table 6).

Table 5—Area II Scallop Rotational Area
Point | Latitude | Longitude | Note
AII1 | 41°30′ N | 67°20′ W |
AII2 | 41°30′ N | ⁽¹⁾ | ⁽²⁾
AII3 | 40°40′ N | ⁽³⁾ | ⁽²⁾
AII4 | 40°40′ N | 67°20′ W |
¹ The intersection of 41°30′ N lat. and the U.S.-Canada Maritime Boundary, approximately 41°30′ N lat., 66°34.73′ W long.
² From Point AII2 connected to Point AII3 along the U.S.-Canada Maritime Boundary.
³ The intersection of 40°40′ N lat. and the U.S.-Canada Maritime Boundary, approximately 40°40′ N lat. and 65°52.61′ W long.

Table 6—Area I Scallop Rotational Area
Point | Latitude | Longitude
AI1 | 40°55.0′ N | 68°53.4′ W
AI2 | 41°30.0′ N | 69°23.0′ W
AI3 | 41°30.0′ N | 68°30.0′ W
AI4 | 40°58.0′ N | 68°30.0′ W
AI1 | 40°55.0′ N | 68°53.4′ W

Access Area Transit

To better enforce the Sea Scallop Rotational Area Management Program, Framework 38 prohibited all vessels fishing under a scallop declaration from entering or transiting any scallop rotational areas unless the vessel is on a declared trip into that area, or otherwise specified. Framework 38 also designated the area known as Area I (including the Area I-Quad) (table 7) as a corridor for continuous transiting. In Framework 39, the Council did not recommend any changes to the current transit regulations, so this action proposes no changes to the Area-I transit corridor.

Table 7—Area I Scallop Transit Corridor
Point | Latitude | Longitude
AIA1 | 40°58.2′ N | 68°30′ W
AIA2 | 40°55.8′ N | 68°46.8′ W
AIA3 | 41°3.0′ N | 68°52.2′ W
AIA4 | 41°0.6′ N | 68°58.2′ W
AIA1 | 40°58.2′ N | 68°30′ W

Delayed Access Area Opening

The Area I and Area II Rotational Access Areas would be closed annually from April 1 through May 14. The areas would re-open on May 15 each fishing year. Scallop yield fluctuates seasonally, with yields on Georges Bank highest in the summer. Fishing during times of improved yield would reduce overall fishing mortality, as fewer animals would be harvested to fill a vessel's access area allocation, and reduce swept area impact on habitat and impacts to non-target species and protected species. A delayed opening of these access areas may also reduce impacts from fishing in areas with multiple cohorts (scallops of different ages/sizes), such as the Area I—Sliver.

This closure would remain in place for the Area I and Area II access areas unless changed in a future action. If parts of these areas become available for open bottom fishing in future actions (e.g., Area II-Extension), the access area closure would not apply. Limited Access vessels would have 60 days after the re-opening of the access areas on May 15 to finish harvesting their previous year's access area allocation.

Area II Seasonal Bycatch Closure

Area II would be closed annually to directed scallop fishing from November 15 through May 15. This closure is intended to reduce bycatch of windowpane and yellowtail flounder and to optimize scallop yield. The current closure, August 15 through November 15, does not cover the time period when windowpane bycatch is highest. Catch rates of windowpane flounder have been highest from December through April. Displacing scallop fishing effort from those months would reduce non-target species impacts, particularly in April when both fishing effort and northern windowpane catch rates are both relatively high. Scallop meat yields are also low during the winter and spring months, and displacing fishing effort in Area II from February, March, and April into the late spring and summer would reduce overall fishing mortality. Shifting and extending the timing of the bycatch closure will better align access to the area with times of lower flatfish bycatch, and when scallop yield is highest.

As the closure would overlap with the beginning of the following fishing year, vessels would be permitted to fish their remaining Area II trips when the area reopens. Limited Access vessels would have 60 days after the re-opening of the access areas to finish harvesting their previous year's access area allocation.

New York Bight Scallop Rotational Area Reverting to Open Area

Framework 39 would revert the New York Bight Scallop Rotational Area to the open area. This area was previously managed as part of the area rotation program; however, there is not enough biomass to support rotational access, nor was there enough recruitment seen in the 2024 annual survey to support keeping this area as part of the program. The area no longer meets the criteria for either closure or controlled access as defined in 50 CFR 648.55(a)(6). This area would become part of the open area and could be fished as part of the DAS program or on LAGC IFQ open area trips after the 60-day carryover period, i.e., after May 30, 2025.

Full-Time Limited Access Allocations and Trip Possession Limits for Scallop Access Areas

Table 8 provides the proposed limited access full-time allocations for all of the access areas for the 2025 fishing year and the first 60 days the access areas that are open in the 2026 fishing year. These allocations could be landed in as many trips as needed, so long as vessels do not exceed the possession limit (also in table 7) on any one trip.

Table 8—Proposed Scallop Access Area Full-Time Limited Access Vessel Poundage Allocations and Trip Possession Limits for 2025 and 2026
Rotational access area | Scallop per trip possession limit | 2025 Scallop allocation | 2026 Scallop allocation (default)
Area I | 12,000 lb (5,443 kg) per trip | 12,000 lb (5,443 kg) | 0 lb (0 kg).
Area II | 12,000 lb (5,443 kg) per trip | 12,000 lb (5,443 kg) | 0 lb (0 kg).
Total |  | 24,000 lb (10,886 kg) | 0 lb (0 kg).

Full-Time Limited Access Vessels' One-for-One Access Area Allocation Exchanges

Framework 39 would allow full-time limited access vessels to exchange access area allocation in 6,000-lb (2,722-kg) increments. The owner of a vessel issued a full-time limited access scallop permit would be able to exchange unharvested scallop pounds allocated into an access area for another full-time limited access vessel's unharvested scallop pounds allocated into another access area. For example, a full-time vessel may exchange 6,000 lb (2,722 kg) from one access area for 6,000 lb (2,722 kg) allocated to another full-time vessel for another access area. Further, a full-time vessel may exchange 12,000 lb (5,443 kg) from one access area for 12,000 lb (5,443 kg) allocated to another full-time vessel for another access area. These exchanges may be made only between vessels with the same permit category; a full-time vessel may not exchange allocations with a part-time vessel, and vice versa. Part-time vessels may not exchange access area allocations.

Part-Time Limited Access Allocations and Trip Possession Limits for Scallop Access Areas

Table 9 provides the proposed limited access part-time allocations for all of the access areas for the 2025 fishing year and the first 60 days the access areas are open in the 2026 fishing year. Vessels could fish the allocation in either of the open access areas (i.e., Area I and Area II). These allocations could be landed in as many trips as needed, so long as a vessel does not exceed the possession limit (also in table 9) or its available allocation on any one trip.

Table 9—Proposed Scallop Access Area Part-Time Limited Access Vessel Poundage Allocations and Trip Possession Limits for 2025 and 2026
Rotational access area | Scallop per trip possession limit | 2025 Scallop allocation | 2026 Scallop allocation (default)
Area I or Area II ¹ | 9,600 lb (4,354 kg) | 9,600 lb (4,354 kg) | 0 lb (0 kg).
¹ Allocation can be fished in either Area I and/or Area II Access Areas.

LAGC Measures

1. ACL and IFQ Allocation for LAGC Vessels With IFQ-Only Permits

This action would implement a 1.854 million-lb (841-mt) ACL for 2025 and a 1.845 million-lb (837-mt) default ACL for 2026 for LAGC vessels with IFQ permits (see table 1). These sub-ACLs provide a ceiling on overall landings by the LAGC IFQ fleet. If the fleet were to reach this ceiling, any overages would be deducted from the following year's sub-ACL. Framework 28 (82 FR 15155, March 27, 2017) changed the way the LAGC IFQ allocations are set from a direct percentage of the ACL to a percentage of the APL. The purpose of this change was to help ensure that the allocation of potential catch between the fleets is more consistent with the concept of spatial management by allocating catch to the LAGC IFQ fleet based on harvestable scallops instead of total biomass. Since Framework 28 was implemented in 2017, the LAGC IFQ allocation has been equal to 5.5 percent of the projected landings (5 percent for LAGC IFQ vessels and 0.5 percent for LAGC IFQ vessels that also have a limited access scallop permit). The annual allocation to the LAGC IFQ-only fleet for fishing years 2025 and 2026 based on APL would be 901,691 lb (409 mt) for 2025 and 676,819 lb (307 mt) for 2026 (see table 1). Each vessel's IFQ would be calculated from these allocations based on APL.

If NMFS implements these Framework 39 measures after the April 1 start of the 2025 fishing year, the default 2025 IFQ allocations would go into place automatically on April 1, 2025. NMFS will notify IFQ permit holders of both default 2025 and Framework 39 IFQ allocations so that vessel owners know what mid-year adjustments would occur should Framework 39 be approved and implemented after the April 1, 2025, start of fishing year 2025.

2. ACL and IFQ Allocation for Limited Access Scallop Vessels With IFQ Permits

This action would implement a 185,188-lb (84-mt) ACL for 2025 and a default 185,188-lb (84-mt) ACL for 2026 for limited access scallop vessels with IFQ permits (see table 1). These sub-ACLs provide a ceiling on overall landings by this fleet. If the fleet were to reach this ceiling, any overages would be deducted from the following year's sub-ACL. The annual allocation to limited access vessels with IFQ permits would be 90,390 lb (41 mt) for 2025 and 90,390 lb (41 mt) for 2026 (see table 1). Each vessel's IFQ would be calculated from these allocations based on APL. NMFS will notify IFQ permit holders of both default 2025 and Framework 39 IFQ allocations so that vessel owners know what mid-year adjustments would occur should Framework 39 be approved and implemented after the April 1, 2025, start of fishing year 2025.

3. LAGC IFQ Trip Allocations for Scallop Access Areas

Framework 39 would allocate LAGC IFQ vessels a fleet-wide number of trips for fishing year 2025 and no default trips for fishing year 2026 (see table 10). The scallop catch associated with the total number of trips for all areas combined (571 trips) for fishing year 2025 is equivalent to 5.5 percent of total projected catch from access areas.

LAGC Access Area trips can be taken in any of the available areas (Area I or Area II). Once the Regional Administrator has determined that the total number of LAGC IFQ access area trips have been or are projected to be taken, all of the access areas would then be closed to LAGC IFQ fishing.

Table 10—Fishing Years 2025 and 2026 LAGC IFQ Trip Allocations for Scallop Access Areas
Scallop access area | 2025 | 2026 ²
Area I/Area II/New York Bight ¹ | 571 | 0
Total | 571 | 0
¹ LAGC Access Area trips can be taken in any of the available areas until Regional Administrator determines that the total number of LAGC IFQ trips have been or are projected to be taken.
² The LAGC IFQ access area trip allocations for the 2026 fishing year are subject to change through a future specifications action or framework adjustment.

4. NGOM Scallop Fishery Landing Limits

This action proposes total allowable landings (TAL) in the NGOM of 712,093 lb (323,000 kg) for fishing year 2025. This action would deduct 25,000 lb (11,340 kg) of scallops annually for 2025 and 2026 from the NGOM TAL to increase the overall Scallop RSA to fund scallop research. In addition, this action would deduct one percent of the NGOM ABC from the NGOM TAL for fishing years 2025 and 2026 to support the industry-funded observer program to help defray the cost to scallop vessels that carry an observer (table 11).

Amendment 21 developed landing limits for all permit categories in the NGOM and established an 800,000-lb (362,874-kg) NGOM Set-Aside trigger for the NGOM directed fishery, with a sharing agreement for access by all permit categories for allocation above the trigger. Allocation above the trigger (i.e., the NGOM APL) will be split 5 percent for the NGOM fleet and 95 percent for limited access and LAGC IFQ fleets. Framework 39 would set a NGOM Set-Aside of 675,563 lb (306,430 kg) for fishing year 2025 and a default NGOM Set-Aside of 506,672 lb (229.823 kg) for fishing year 2026. Because the NGOM Set-Aside for fishing years 2025 and 2026 is below the 800,000-lb (362,874-kg) trigger, Framework 39 would not allocate any landings to the NGOM APL. Table 10 describes the breakdown of the NGOM TAL for the 2025 and 2026 (default) fishing years.

Table 11—NGOM Scallop Fishery Landing Limits for Fishing Year 2025 and 2026
Landings limits | 2025 | 2026 ⁽¹⁾
NGOM TAL | 712,093 lb (323,000 kg) | 534,070 lb (242,250 kg).
1 percent NGOM ABC for Observers | 11,530 lb (5,230 kg) | 11,530 lb (5,230 kg).
RSA Contribution | 25,000 lb (11,340 kg) | 25,000 lb (11,340 kg).
NGOM Set-Aside | 675,563 lb (306,430 kg) | 506,672 lb (229.823 kg).
NGOM APL | (²) | (²).
¹ The catch limits for the 2026 fishing year are subject to change through a future specifications action or framework adjustment. This includes the setting of an APL for 2026 that will be based on the 2025 annual scallop surveys.
² NGOM APL is set when the NGOM Set-Aside is above 800,000 lb (362,874 kg).

5. Northern Gulf of Maine Permitted Vessel Transit

This action proposes to allow vessels issued an LAGC Category B permit to possess scallops and transit, with gear stowed, outside of the NGOM scallop management area. Vessels issued a NGOM scallop permit would continue to be prohibited from declaring into or fishing for scallops outside of the NGOM scallop management area. Vessels issued an LAGC Category B permit fishing in the NGOM would continue to be limited to no more than 1,666 lb (756 kg) of in-shell scallops shoreward of the Vessel Monitoring System (VMS) demarcation line.

Vessels possessing a LAGC Category B permit are currently prohibited from possessing scallops harvested on a declared NGOM trip outside of the NGOM scallop management area. Vessels with LAGC Category A permits are allowed to possess scallops and transit outside of the area. This proposed change acknowledges that several ports that are south of 42°20'N. latitude, such as Scituate, and Provincetown, MA, are a short distance from Stellwagen Bank where the majority of biomass within the NGOM scallop management area is located. This measure would allow vessels to possess and land catch in principle ports south of the southern boundary of the management unit.

6. Scallop Incidental Landings Target TAL

This action proposes a 50,000-lb (22,680-kg) scallop incidental landings target TAL for each respective fishing year, 2025 and 2026, to account for mortality from vessels that catch scallops while fishing for other species and ensure that F targets are not exceeded. The Council and NMFS may adjust this target TAC in a future action if vessels catch more scallops under the incidental target TAC than predicted.

Regulatory Corrections Under Regional Administrator Authority

This proposed rule includes one revision to add regulatory text to clarify the conditions related to research set-aside harvest. Regulatory text has been added at § 648.56(i) to clarify that fishing vessels harvesting research set-aside pounds are not allowed to also harvest commercial pounds on the same trip.

These revisions are consistent with section 305(d) of the Magnuson-Stevens Act, which provides authority to the Secretary of Commerce to promulgate regulations necessary to ensure that amendments to the Atlantic Sea Scallop FMP are carried out in accordance with the Atlantic Sea Scallop FMP and the Magnuson-Stevens Act.

Classification

NMFS is proposing annual specifications and management measure changes pursuant to section 304(b)(1)(A) of the Magnuson-Stevens Act, which provides specific authority for implementing regulations prepared under section 303(c). Pursuant to section 305(d) of the Magnuson-Steven Act, this action is necessary to carry out the Atlantic Sea Scallop FMP by allowing NMFS to implement measures developed in Framework Adjustment 39 to the Atlantic Sea Scallop FMP for fishing year 2025. The NMFS Assistant Administrator has determined that this proposed rule is consistent with the Atlantic Sea Scallop FMP and other applicable law, subject to further consideration after public comment.

This proposed rule has been determined to be not significant under Executive Order 12866.

NMFS's primary economic analysis compares projected fleetwide revenues between the 2025 fishing year (i.e., Framework 39) and the 2024 fishing year (i.e., Framework 38). This approach allows NMFS to estimate the impacts the rule would have on fishery revenues when compared to the previous season. The proposed rule would allocate each full-time limited access vessel 24 open area DAS and 2 access area trips (i.e., 1 Area I trips at 12,000 lb (5,443 kg) and 1 Area II at 12,000 lb (5,443 kg)) amounting to 24,000 lb (10,886 kg) of projected landings in the fishing year 2025. As a result of these provisions, NMFS estimates that projected landings for limited access and LAGC fleets would decrease by about 7.64 million lbs. (3,465 mt) in the 2025 fishing year. This reduced catch would reduce the fleetwide revenue for the limited access vessels (including revenue from the LAGC IFQ vessels) by about $35.7 million (in 2024 dollars), when compared to the fishing year 2024 projections. The measures proposed in this action are intended to align and optimize fishery access, in fishing year 2025, with the current resource conditions, while protecting small scallops to increase yield in future years.

As a secondary analysis, NMFS also compared projected fleetwide revenues resulting from this proposed rule with the 2025 default measures implemented in Framework 38. This approach compares revenues to a “no action” baseline, however it does not reflect the potential change in fishery revenues when compared with the previous year. Projected landings under the Framework 38 default measures were estimated to be 9.16 million lbs., resulting in estimated revenues of $167.45 million. The proposed measures in this rulemaking are expected to result in projected landings of 19.75 million lbs., with estimated revenues of $348.25 million. Therefore, relative to the default measures that will go into effect without Framework 39, the Framework provides an increase in projected scallop revenues of $180.8 million.

An IRFA was prepared for Framework 39, as required by section 603 of the Regulatory Flexibility Act (RFA). The IRFA describes the economic impact this proposed rule, if adopted, would have on small entities. A description of the action, why it is being considered, and the legal basis for this action are contained at the beginning of this section in the preamble and in the SUMMARY section of the preamble. A copy of this analysis is available from the Council (see ADDRESSES). A summary of the IRFA follows:

Description of the Reasons Why Action by the Agency Is Being Considered and Statement of the Objectives of, and Legal Basis for, This Proposed Rule

This action proposes the management measures and specifications for the Atlantic sea scallop fishery for fishing year 2025, along with 2026 default measures. A description of the action, why it is being considered, and the legal basis for this action are contained in the Council's Framework 39 document and in the preamble of this proposed rule. They are not repeated here.

Description of Projected Reporting, Recordkeeping, and Other Compliance Requirements of the Proposed Rule

This proposed rule contains no information collection requirements under the Paperwork Reduction Act of 1995.

Federal Rules Which May Duplicate, Overlap or Conflict With This Proposed Rule

The proposed regulations do not create overlapping regulations with any state regulations or other Federal laws.

Description and Estimate of Number of Small Entities to Which the Proposed Rule Would Apply

The proposed regulations would affect all vessels with limited access, LAGC IFQ, and LAGC NGOM scallop permits. Framework 39 (section 5.6) and the LAGC IFQ Performance Evaluation (2017) provide extensive information on the number of vessels that would be affected by the proposed regulations, their home and principal state, dependency on the scallop fishery, and revenues and profits (see ADDRESSES). There were 315 vessels that held full-time limited access permits in fishing year 2023, including 250 dredge, 54 small-dredge, and 11 scallop trawl permits. In the same year, there were also 29 part-time limited access permits in the sea scallop fishery. No vessels were issued occasional scallop permits in 2023. Approximately 99 of the IFQ vessels and 89 NGOM vessels actively fished for scallops in fishing year 2023. The remaining IFQ permits likely leased out scallop IFQ allocations with their permits in Confirmation of Permit History. The limited access fleet also held LAGC permits, i.e., 39 of limited access vessels also had IFQ permits; 66 had NGOM permits, and 76 had incidental permits.

For RFA purposes, NMFS defines a small business in a shellfish fishery as a firm that is independently owned and operated with receipts of less than $11 million annually (see 50 CFR 200.2). Individually permitted vessels may hold permits for several different fisheries, harvesting species of fish that are regulated by several different fishery management plans, in addition to those impacted by the proposed action. Furthermore, multiple permitted vessels and/or permits may be owned by entities affiliated through stock ownership, common management, identity of interest, contractual relationships, or economic dependency. For the purposes of this analysis, “ownership entities” are defined as those entities with common ownership as listed on the permit application. Only permits with identical ownership are categorized as an “ownership entity.” For example, if five permits have the same seven persons listed as co-owners on their permit applications, those seven persons would form one “ownership entity” that holds those five permits. If two of those seven owners also co-own additional vessels, that ownership arrangement would be considered a separate “ownership entity” for the purpose of this analysis.

On June 1 of each year, ownership entities are identified based on a list of all permits for the most recent complete calendar year. The current ownership dataset is based on the calendar year 2023 permits and contains average gross sales associated with those permits for calendar years 2019 through 2023. Matching the potentially impacted 2023 fishing year permits described above (i.e., limited access and LAGC IFQ) to calendar year 2023 ownership data results in 153 distinct ownership entities for the limited access fleet and 76 distinct ownership entities for the LAGC IFQ fleet. Based on the Small Business Administration (SBA) guidelines, 146 of the limited access distinct ownership entities and 76 LAGC IFQ entities are categorized as small. Seven limited access and none of LAGC IFQ entities are categorized as large business entities with annual fishing revenues over 11 million dollars in the calendar year 2023. There were 85 distinct small business entities with NGOM permits in 2023.

Description of Significant Alternatives to the Proposed Action Which Accomplish the Stated Objectives of Applicable Statutes and Which Minimize Any Significant Economic Impact on Small Entities

A detailed description of each specification alternative is provided in section 4.3 of the draft Framework 39 EA (see ADDRESSES), and economic analyses and impacts are provided in section 6.6.1. For the purposes of the RFA analysis (section 7.12), the Council's preferred alternative is evaluated relative to the fishing year 2024 projections for the Framework 38 preferred alternative.

The Council's preferred alternative (section 4.3.6) in Framework 39 would allocate each full-time limited access vessel 24 open area DAS and 2 access area trips (i.e., 1 Area I trips at 12,000 lb (5,443 kg) and 1 Area II at 12,000 lb (5,443 kg)) amounting to 24,000 lb (10,886 kg) in fishing year 2025. This is estimated to result in about 19.75 million lb (8,958 mt) of annual projected landings after research and observer set asides are accounted for. The limited access share of 94.5 percent is approximately 17.04 million lb (7,729 mt). The LAGC IFQ share (5.5 percent allocation for both IFQ only and limited access vessels with IFQ permits) will be approximately 0.992 million lb (450 mt).

The preferred alternative (section 4.3.6) is expected to have negative impacts on the revenues and profits of small entities regulated by this action in fishing year 2025 (i.e., Framework 39) compared to the primary baseline fishing year 2024 (i.e., Framework 38) scenario. The decline in revenue per entity between fishing year 2024 levels and fishing year 2025 is a result of a decline in projected landings between these fishing years. Projected landings for limited access and LAGC fleets are expected to decrease by about 7.64 million lb (3,465 mt) in the Framework 39 preferred alternative compared to the analysis for 2024 provided in Framework Adjustment 38 to the FMP (89 FR 20341, March 22, 2024).

A hybrid system of DAS, trip limits, and rotational closures is used in the management of Atlantic sea scallops. This approach can result in increases and decreases in landings over time, depending on which rotational areas may be open for harvest or closed to protect small scallops and improve yield-per-recruit. Considering that rotational closures and rotational harvest are driven by underlying resource conditions (i.e., level of exploitable biomass), a major driver of scallop fishery allocations is recruitment. Due to the lack of strong incoming recruitment over the last 10 years, overall landings, and subsequent economic benefits have steadily declined since 2019.

Framework 39 economic benefits are expected to be lower when compared with the primary baseline Framework 38 preferred alternative due to recent declines in exploitable biomass, but higher when compared to the default measures. The measures proposed in this action are intended to align and optimize fishery access, in fishing year 2025, with the current resource conditions, while protecting small scallops to increase yield in future years. Under the Framework 39 preferred alternative (section 4.3.6), fleetwide revenue for the limited access vessels (including revenue from the LAGC IFQ vessels) would be lower by about $35.7 million (in 2024 dollars) compared to the preferred alternative in Framework 38. Revenue per entity for limited access vessels in fishing year 2025 under the Framework 39 preferred alternative would be lower by about $0.14 million as compared to the Framework 38 preferred alternative in fishing year 2024.

Projected landings under the alternative baseline Framework 38 default measures are estimated to be 9.16 million lb, resulting in estimated revenues of $167.45 million. The proposed measures in Framework 39, result in projected landings of 19.75 million lb, with estimated revenues of $348.25 million. Therefore, relative to the default measures that will go into effect without Framework 39, the Framework provides an increase in projected scallop revenues of $180.8 million.

The preferred alternative (section 4.3.6) would have about 9.3 percent lower revenue per entity compared to the primary baseline Framework 38 preferred alternative. The negative economic impact on entities in Framework 39 is primarily due to lower abundance and biomass, and below-average recruitment for several years, even though scallop prices are estimated to be higher during Framework 39 compared to Framework 38. Higher prices were not enough to compensate for the loss in fishing income due to the larger magnitude of the scallop landing losses. Under the preferred alternative (section 4.3.6), allocations for the LAGC IFQ fishery, including the limited access vessels with IFQ permits, will be about 29.5 percent lower than the allocation that was implemented for fishing year 2024 under Framework 38. In terms of revenue, this difference is expected to be of similar magnitude and negative for the preferred alternative relative to 2024 levels. Therefore, the Framework 39 preferred alternative will have negative economic impacts on the LAGC IFQ fishery compared to fishing year 2024 levels due to a decline in scallop landing allocation for the LAGC IFQ fleet.

The economic benefits of all the alternatives considered in this Framework, including the proposed alternative, will exceed economic benefits of the alternative baseline of No Action (i.e., default specifications). The specification alternatives considered in Framework 39 differ across alternatives with each alternative allocating to the same access area allocations. Differences between the alternatives are driven by the number of DAS allocated, which ranges from 18 to 26 DAS, and the trip limit, which ranges from 10,000 lb (4,536 kg) to 14,000 lb (6,350 kg). The Council's preferred alternative, alternative 6 (section 4.3.6) (see ADDRESSES) would result in a higher allocation to the LA and LAGC IFQ components in 2025 compared to all other alternatives except Alternative 5 (section 4.3.5).

Framework 39 is expected to result in lower revenues compared to the primary baseline Framework 38 preferred alternative in fishing year 2024 primarily due to lower projected landings (table 12 and table 13). The percent change in revenue per business entity for Framework 39 alternatives is expected to decline by 9.3 percent compared to the Framework 38 baseline. Under the preferred alternative in Framework 39, revenues per entity with limited access permits are estimated to be below fishing year 2024 levels by about 20 percent in fishing year 2025.

Access Areas—Delayed Opening and Seasonal Closure

This action proposes two measures that would impact the timing of fishing in scallop access areas. The proposed change to open access areas on May 15, instead of April 1, as described in section 4.5 of the draft EA, is intended to align the timing of scallop fishing when scallop yield is higher. Scallop yield fluctuates seasonally, with yields on Georges Bank highest in the summer. As described in section 6.6.6.6.2 of the draft EA the economic impact of this alternative (Alternative 2) is expected to be slight positive, and slight positive relative to the current opening date, as fishing during times of improved yield would reduce trip costs compared to fishing during times of lower yield.

This action also proposes a seasonal closure of the Area II access area from November 15 to May 15 (section 4.7). The current seasonal closure (August 15-November 15) is not well aligned with times of high flatfish bycatch, and closes the area during a time of relatively high scallop yield. Changing the timing of the closure would allow scallop fishing in Area II through the end of summer and into the fall when scallop yields are still high and windowpane bycatch is lower. As described in section 6.6.1.7.2.3 the economic impacts of the seasonal closure are expected to be slight positive.

Although it is not practicable to precisely quantify the economic impact of these seasonal access area changes, one of the primary objectives is to allow for scallop fishing during the times when scallop yield is the highest.

Northern Gulf of Maine

The Council considered 4 NGOM TAL options for fishing year 2025 that ranged from 487,068 lb (216,848 kg) (option 1) to 675,563 lb (306,430 kg) (option 3). The preferred alternative (section 4.5.2) would have a higher TAL (675,563 lb, 306,430 kg) and revenue compared to the alternative 2 (option 2).

Under the sharing arrangement approved for the NGOM Management Area in Amendment 21, Framework 39 would not allocate pounds to the LAGC IFQ or limited access components for fishing year 2025 because the NGOM set-aside did not exceed 800,000 lb (362,874 kg). Therefore, this action would not have direct impacts on the limited access component.

As described in section 4.2.2.2 of the draft EA, this action also proposes to allow vessels with a limited access general category B permit to transit, with gear stowed, outside of the Northern Gulf of Maine scallop management area with scallops onboard. This would relieve a current regulatory restriction by allowing vessels additional flexibility in their landing port. As described in the draft EA (section 6.6.6.2.2) this alternative would not increase or decrease landings or revenue but would distribute landings and revenue to a broader range of fishing ports. The economic impact of this alternative would be negligible.

LAGC IFQ

The Council considered six alternatives for LAGC IFQ access area allocations. As noted above, Alternative 6, with the Council's preferred in section 4.6, would allocate 571 total trips from Area I and Area II. Under Alternative 1 (No Action), the number of total access area trips would be zero. Because Landings Per Unit of Effort (LPUE) in the open bottom is projected to decrease in 2025, LAGC IFQ vessels may have more opportunities to target larger scallops in areas of high abundance and would likely utilize rotational trips. The preferred alternative for LAGC access area allocations would have higher economic benefits for the small business entities in the LAGC IFQ fishery compared to No Action and alternatives 2 through 4, but not alternative 5.

Research Set-Aside

The research set-aside proposed in this action is the same as 2024 (1.275 million lb (578 mt). Under the default measures used for the alternative baseline, RSA compensation fishing is limited to open areas. As described in section 4.5.2 of the draft EA, this action proposes to allow RSA compensation fishing opportunities up to 50 percent of the total available RSA compensation pounds in higher-density areas (Area I and Area II). While we cannot quantitatively estimate the economic impacts, as described in section 6.6.1.5.2 of the draft EA, this alternative is expected to result in slight positive economic impacts overall relative to the alternative baseline of no action because it would allow vessels to direct fishing effort to areas with higher concentrations of scallops. Because this option would allow directed scallop fishing on larger scallops in high densities, it could result in lower trip costs compared to open area fishing. Access to larger scallops in access areas could have a positive effect on revenues, which is an important part of the RSA program.

This action will not have a significant economic impact on a substantial number of small entities. Economic impacts of Framework 39 preferred alternatives, including fishery specifications, access area trip allocations for the limited access and LAGC IFQ fisheries, except NGOM measures, are expected to be negative for the scallop vessels and small business entities compared to the fishing year 2024 primary baseline implemented through Framework 38. This is primarily due to a decline in the projected landings which is expected to result in a $0.14 million per vessel reduction in revenues (roughly 9.3 percent reduction relative to the Framework 38 baseline). There are only seven large entities in the limited access component of the scallop fishery and impacts on scallop revenues to small entities would not be disproportionate. The economic analysis indicates that this change will not result in large-scale restructuring of the scallop fishery, closure of any businesses, or negative market effects. All entities would be impacted in a similar way from a higher projected landing allocation. A negative economic impact in Framework 39 compared to Framework 38 is primarily due to a stock recruitment condition leading to a decline in projected scallop landing. Please submit any comments concerning this IRFA in accordance with the instructions provided in the ADDRESSES section of this proposed rule.

Table 12—Scallop Revenue for Limited Access Vessels in Fishing Year 2025 and Percent Change From Fishing Year 2024
[Revenues in 2024 million dollars]
Alternatives/runs: Description | Alternatives/runs: Unit | Framework 39 alternatives: Alt. 1: 4.3.1 No action | Framework 39 alternatives: Alt. 2: 4.3.2 | Framework 39 alternatives: Alt. 3: 4.3.3 | Framework 39 alternatives: Alt. 4: 4.3.4 | Framework 39 alternatives: Alt. 5: 4.3.5 | Framework 39 alternatives: Alt. 6 (pref): 4.3.6 Pref. alt. | Framework 39 alternatives: Status quo: 4.3.7 Status quo | FW38's preferred alternative: (in 2024$)
Estimated scallop APL landings | mil lb | 8.764 | 16.258 | 19.018 | 19.095 | 21.743 | 19.752 | 26.935 | 27.39
Estimated LA scallop landings (94.5% net of set asides) | mil lb | 6.657 | 13.739 | 16.347 | 16.420 | 18.922 | 17.041 | 23.829 | 24.19
No. of Entities (Average in 2019-2023) both small and large | Counts | 154 | 154 | 154 | 154 | 154 | 154 | 154 | 151
Estimated revenues for scallop APL | mil dollars | $160.258 | $294.745 | $339.743 | $336.598 | $378.649 | $348.249 | $455.377 | $397.37
Scallop revenue per Entity | mil dollars | $0.953 | $1.640 | $1.912 | $1.860 | $2.115 | $1.940 | $2.153 | $2.13
Change in scallop revenue per entity compared to FW38 preferred alternative | % | −55.3% | −23.0% | −10.2% | −12.7% | −0.7% | −8.9% | +1.1% | 0.00%

Table 13—Impacts of the LAGC IFQ Allocation for Fishing Year 2025
[Framework 39]
Sections | Framework 39 alternatives: Alt. 1 (no action): 4.3.1 | Framework 39 alternatives: Alt. 2: 4.3.2 | Framework 39 alternatives: Alt. 3: 4.3.3 | Framework 39 alternatives: Alt. 4: 4.3.4 | Framework 39 alternatives: Alt. 5: 4.3.5 | Framework 39 alternatives: Alt. 6 (preferred): 4.3.6 | Framework 39 alternatives: Status quo: 4.3.7 | Framework 38 preferred alternative
Allocation for IFQ-only vessels (5%) | 352,244 lb (160 mt) | 726,919 lb (330 mt) | 864,929 lb (392 mt) | 868,787 lb (394 mt) | 1,001,174 lb (454 mt) | 901,636 lb (409 mt) | 1,260,769 lb (572 mt) | 1,279,673 lb (580 mt).
Allocation for LA vessels with IFQ permits (0.5%) | 35,224 lb (15,977 kg) | 72,692 lb (32,973 kg) | 86,493 lb (39,233 kg) | 86,879 lb (39,408 kg) | 100,117 lb (45,412 kg) | 90,163 lb (40,897 kg) | 126,077 lb (57,188 kg) | 127,967 lb (58,045 kg).
Total Allocation for IFQ fishery (5.5%) * | 387,468 lb (176 mt) | 799,611 lb (363 mt) | 951,421 lb (432 mt) | 955,665 lb (433 mt) | 1,101,292 lb (500 mt) | 991,799 lb (450 mt) | 1,386,845 lb (629 mt) | 1,407,641 lb (638 mt).
Percent Change in estimated landings (and revenue) per business entity from Status Quo | −72.5% | −43.2% | −32.4% | −32.1% | −21.8% | −29.5% | −1.5% | 0.0%.
* APL with set asides removed.

Table 14—Impacts of the Preferred Alternative 2 Option 1 and Other Alternatives for NGOM Scallop Fishery Relative to the Alternative No Action Baseline
[2025 fishing year and monetary values in 2024 dollars]
| Alternative 2: 4.2.1.2.1: Option 1 (preferred): F=0.18 | Alternative 2: 4.2.1.2.2: Option 2: F=0.20 | Alternative 1: No action
2025 Total Allowable Landings (TAL) | 712,093 lb (323 mt) | 523,598 lb (238 mt)
1 Percent NGOM ABC for Observers | 11,530 lb (5 mt) | 11,530 lb (5 mt)
2025 RSA Contribution | 25,000 lb (11 mt) | 25,000 lb (11 mt)
2025 NGOM Set-Aside | 675,563 lb (306 mt) | 487,068 lb (221 mt) | 315,449 lb (143 mt).
Impacts of the NGOM Set-Aside:
Estimated LAGC revenue | $11,970,686 | $8,630,635 | $5,589,621.
DAS | 3,378 | 2,435 | 1,577.
Trip costs | $2,705,630 | $1,950,707 | $1,263,373
Revenue | $9,265,056 | $6,679,928 | $4,326,247.
Revenue net of No Action | $4,938,809 | $2,353,681
Revenue net of No Action Percent | 114.17% | 54.39% | 0.00%.

List of Subjects 50 CFR Part 648

Fisheries, Fishing, Recordkeeping and reporting requirements.

Dated: March 12, 2025.
Samuel D. Rauch III,
Deputy Assistant Administrator for Regulatory Programs, National Marine Fisheries Service.

For the reasons set out in the preamble, NMFS proposes to amend 50 CFR part 648 as follows:

PART 648—FISHERIES OF THE NORTHEASTERN UNITED STATES

1. The authority citation for part 648 continues to read as follows:

Authority: 16 U.S.C. 1801 et seq.

Subpart D—Management Measures for the Atlantic Sea Scallop Fishery

2. In § 648.53, revise paragraphs (a)(9) and (b)(3) to read as follows:

§ 648.53 Overfishing limit (OFL), acceptable biological catch (ABC), annual catch limits (ACL), annual catch targets (ACT), annual projected landings (APL), DAS allocations, and individual fishing quotas (IFQ). (a) * * *

(9) Scallop fishery catch limits. The following catch limits will be effective for the 2025 and 2026 fishing years:

Table 2 to Paragraph (a)(9)—Scallop Fishery Catch Limits
Catch limits | 2025 (mt) | 2026 (mt) ¹
OFL | 28,970 | 30,031
ABC/ACL (discards removed) | 17,901 | 17,745
Incidental Landings | 23 | 23
RSA | 578 | 578
Observer Set-Aside | 179 | 177
NGOM Set-Aside | 306 | 230
ACL for fishery | 16,815 | 16,736
Limited Access ACL | 15,890 | 15,816
LAGC Total ACL | 925 | 920
LAGC IFQ ACL (5 percent of ACL) | 841 | 837
Limited Access with LAGC IFQ ACL (0.5 percent of ACL) | 84 | 84
Limited Access ACT | 13,771 | 13,707
APL (after set-asides removed) | 8,180 | (¹)
Limited Access APL (94.5 percent of APL) | 7,730 | (¹)
Total IFQ Annual Allocation (5.5 percent of APL) ² | 450 | 337
LAGC IFQ Annual Allocation (5 percent of APL) ² | 409 | 307
Limited Access with LAGC IFQ Annual Allocation (0.5 percent of APL) ² | 41 | 31
¹ The catch limits for the 2026 fishing year are subject to change through a future specifications action or framework adjustment. This includes the setting of an APL for 2026 that will be based on the 2025 annual scallop surveys. The 2026 default allocations for the limited access component are defined for DAS in paragraph (b)(3) of this section and for access areas in § 648.59(b)(3)(i)(B).
² As specified in paragraph (a)(6)(iii)(B) of this section, the 2026 IFQ annual allocations are set at 75 percent of the 2025 IFQ Annual Allocations.

(b) * * *

(3) DAS allocations. The DAS allocations for limited access scallop vessels for fishing years 2025 and 2026 are as follows:

Table 3 to Paragraph (b)(3)—Scallop Open Area DAS Allocations
Permit category | 2025 | 2026 ¹
Full-Time | 24 | 18
Part-Time | 9.6 | 7.2
Occasional | 2.0 | 1.5
¹ The DAS allocations for the 2026 fishing year are subject to change through a future specifications action or framework adjustment. The 2026 DAS allocations are set at 75 percent of the 2025 allocation as a precautionary measure.

* * * * *

3. Amend § 648.56 by adding paragraph (i) to read as follows:

§ 648.56 Scallop research.

* * * * *

(i) Vessels on compensation fishing trips, harvesting scallops for RSA compensation, may not fish for, or land scallops except for RSA compensation. Vessels on compensation fishing trips may not fish for, or land scallops on DAS, access area allocation, or IFQ allocation.

4. Amend § 648.59 by revising paragraphs (a)(2)(i), (b)(3)(i)(B), (c), (e), (g)(1), and (g)(3)(v) to read as follows:

§ 648.59 Sea Scallop Rotational Area Management Program and Access Area Program requirements. (a) * * *

(2) * * *

(i) Scallop Rotational Areas Available for Continuous Transit:

(A) Area 1 Scallop Transit Area

Table 1 to Paragraph (a)(2)(i)(A)
Point | Latitude | Longitude
AIT1 | 40°58.2′ N | 68°30′ W
AIT2 | 40°55.8′ N | 68°46.8′ W
AIT3 | 41°3.0′ N | 68°52.2′ W
AIT4 | 41°0.6′ N | 68°58.2′ W
AIT1 | 40°58.2′ N | 68°30′ W

(ii) [Reserved]

(b) * * *

(3) * * *

(i) * * *

(B) The following access area allocations and possession limits for limited access vessels shall be effective for the 2025 and 2026 fishing years:

(1) Full-time vessels. (i) For a full-time limited access vessel, the possession limit and allocations are:

Table 2 to Paragraph (b)(3)(i)(B)(1)(i)
Rotational access area | Scallop possession limit | 2025 Scallop allocation | 2026 Scallop allocation (default) ¹
Area I | 12,000 lb (5,443 kg) per trip | 12,000 lb (5,443 kg) | 0 lb (0 kg).
Area II | 12,000 lb (5,443 kg) per trip | 12,000 lb (5,443 kg) | 0 lb (0 kg).
Total |  | 24,000 lb (10,886 kg) | 0 lb (0 kg).
¹ The access area allocations for the 2026 fishing year are subject to change through a future specifications action or framework adjustment.

(ii) [Reserved]

(2) Part-time vessels. (i) For a part-time limited access vessel, the possession limit and allocations are as follows:

Table 3 to Paragraph (b)(3)(i)(B)(2)(i)
Rotational access area | Scallop possession limit | 2025 Scallop allocation | 2026 Scallop allocation (default)
Area Ior Area II ᵃ | 9,600 lb (4,354 kg) per trip | 9,600 lb (4,354 kg) | 0 lb (0 kg).
Total |  | 9,600 lb (4,354 kg) | 0 lb (0 kg).
ᵃ Allocation can be fished in either Area I and/or Area II Access Areas.

(ii) [Reserved]

(3) Occasional limited access vessels. (i) For the 2025 fishing year only, an occasional limited access vessel is allocated 2,000 lb (907 kg) of scallops with a trip possession limit at 2,000 lb of scallops per trip (907 kg per trip). Occasional limited access vessels may harvest the 2,000 lb (907 kg) allocation from Area I or Area II Access Areas.

(ii) For the 2026 fishing year, occasional limited access vessels are not allocated scallops in any rotational access area.

* * * * *

(c) Scallop Access Area scallop allocation carryover. With the exception of vessels that held a Confirmation of Permit History as described in § 648.4(a)(2)(i)(J) for the entire fishing year preceding the carry-over year, a limited access scallop vessel may fish any unharvested Scallop Access Area allocation from a given fishing year within the first 60 days the access area is open in the subsequent fishing year, unless otherwise specified in this section. However, the vessel may not exceed the Scallop Rotational Area trip possession limit. For example, if a full-time vessel has 7,000 lb (3,175 kg) remaining in the Area II Access Area at the end of fishing year 2024, that vessel may harvest those 7,000 lb (3,175 kg) during the first 60 days that the Area II Access Area is open in fishing year 2025 (May 15, 2025, through July 13, 2025). * * * * * (e) Sea Scallop Research Set-Aside Harvest in Scallop Access Areas. Unless otherwise specified, RSA may be harvested in any access area that is open in a given fishing year, as specified through a specifications action or framework adjustment and pursuant to § 648.56. The amount of scallops that can be harvested in each access area by vessels participating in approved RSA projects shall be determined through the RSA application review and approval process. The access areas open for RSA harvest for fishing years 2025 and 2026 are:

(1) 2025. Area I and II Scallop Rotational Access Areas.

(2) 2026. No access areas.

* * * * *

(g) * * *

(1) An LAGC scallop vessel may only fish in the scallop rotational areas specified in § 648.60 or in paragraph (g)(3)(iv) of this section, subject to any additional restrictions specified in § 648.60, subject to the possession limit and access area schedule specified in the specifications or framework adjustment processes defined in § 648.55, provided the vessel complies with the requirements specified in paragraphs (b)(1) through (2), (b)(6) through (9) and (d) through (g) of this section. A vessel issued both a NE multispecies permit and an LAGC scallop permit may fish in an approved SAP under § 648.85 and under multispecies DAS in the Area II and Area I, Scallop Rotational Areas specified in § 648.60, when open, provided the vessel complies with the requirements specified in § 648.59 and this paragraph (g), but may not fish for, possess, or land scallops on such trips.

* * * * *

(3) * * *

(v) LAGC IFQ access area allocations. The following LAGC IFQ access area trip allocations will be effective for the 2025 and 2026 fishing years:

Table 3 to Paragraph (g)(3)(v)
Scallop access area | 2025 | 2026 ᵃ
Area I/Area II ᵇ | 571 | 0
Total | 571 | 0
ᵃ The LAGC IFQ access area trip allocations for the 2026 fishing year are subject to change through a future specifications action or framework adjustment.
ᵇ LAGC Access Area trips can be taken in any of the available areas until Regional Administrator determines that the total number of LAGC IFQ trips have been or are projected to be taken.

* * * * *

5. Amend § 648.60 by:

a. Revising paragraphs (a) and (b)(2);

b. Removing and reserving paragraphs (c) and (d);

d. Revising paragraph (g);

e. Adding paragraph (h); and

f. Removing and reserving paragraph (j).

The revisions and additions read as follows:

§ 648.60 Sea Scallop Rotational Areas.

(a) Area I—Rotational Area—(1) Area I—Rotational Area definition. The Area I Rotational Area is defined by straight lines connecting the following points in the order stated (copies of a chart depicting this area are available from the Regional Administrator upon request):

Table 1 to Paragraph (a)(1)
Point | Latitude | Longitude
AI1 | 40°55.0′ N | 68°53.4′ W
AI2 | 41°30.0′ N | 69°23.0′ W
AI3 | 41°30.0′ N | 68°30.0′ W
AI4 | 40°58.0′ N | 68° 30.0′ W
AI1 | 40°55.0′ N | 68°53.4′ W

(2) Season. A vessel issued a scallop permit may not fish for, possess, or land scallops in or from the area known as the Area I Scallop Rotational Access Area, defined in paragraph (a)(1) of this section, during the period from April 1 to May 15 of each year the Area I Access Area is open to scallop vessels, unless transiting pursuant to § 648.59(a).

(b) * * *

(2) Season. (i) A vessel issued a scallop permit may not fish for, possess, or land scallops in or from the area known as the Area II Scallop Rotational Access Area, defined in paragraph (b)(1) of this section, during the period of November 15 to May 15 of each year the Area II Access Area is open to scallop vessels, unless transiting pursuant to § 648.59(a).

(ii) [Reserved]

(g) Nantucket Lightship Scallop Rotational Area—(1) Nantucket Lightship Scallop Rotational Area definition. The Nantucket Lightship Scallop Rotational Area is defined by straight lines connecting the following points in the order stated (copies of a chart depicting this area are available from the Regional Administrator upon request):

Table 3 to Paragraph (g)(1)
Point | Latitude | Longitude
NL1 | 40°20.0′ N | 69°30.0′ W
NL2 | 40°20.0′ N | 68°48.0′ W
NL3 | 40°33.0′ N | 68°48.0′ W
NL4 | 40°33.0′ N | 69°00.0′ W
NL5 | 40°50.0′ N | 68°60.0′ W
NL6 | 40°50.0′ N | 69°30.0′ W
NL1 | 40°20.0′ N | 69°30.0′ W

(2) [Reserved]

(h) Elephant Trunk Scallop Rotational Area—(1) Elephant Trunk Scallop Rotational Area definition. The Elephant Trunk Scallop Rotational Area is defined by straight lines connecting the following points in the order stated (copies of a chart depicting this area are available from the Regional Administrator upon request):

Table 4 to Paragraph (h)(1)
Point | Latitude | Longitude
ET1 | 38°50.0′ N | 74°20.0′ W
ET2 | 38°50.0′ N | 73°30′.0 W
ET3 | 38°10.0′ N | 73°30.0′ W
ET4 | 38°10.0′ N | 74°20.0′ W
ET1 | 38°50.0′ N | 74°20.0′ W

(2) [Reserved]

* * * * *

6. In § 648.62, revise paragraph (a)(1), add paragraph (a)(4), and revise paragraph (b)(1) to read as follows:

§ 648.62 Northern Gulf of Maine (NGOM) Management Program.

(a) * * *

(1) A vessel fishing under a NGOM scallop permit may only fish for scallops in the NGOM scallop management area.

* * * * *

(4) A vessel issued a NGOM scallop permit may possess scallops outside the NGOM management unit if all fishing gear is stowed and not available for immediate use as defined in § 648.2.

* * * * *

(b) * * *

(1) The following landings limits will be effective for the NGOM for the 2025 and 2026 fishing years.

Table 1 to Paragraph (b)(1)
Landings limits | 2025 | 2026 (a)
NGOM TAL | 712,093 lb | 534,070 lb.
1 percent NGOM ABC for Observers | 11,530 lb | 11,530 lb.
RSA Contribution | 25,000 lb | 25,000 lb.
NGOM Set-Aside | 675,563 lb | 506,672 lb.
NGOM APL | (ᶜ) | (ᶜ).
ᵃ The landings limits for the 2026 fishing year are subject to change through a future specifications action or framework adjustment.
ᵇ The catch limits for the 2026 fishing year are subject to change through a future specifications action or framework adjustment. This includes the setting of an APL for 2026 that will be based on the 2024 annual scallop surveys.
ᶜ NGOM APL is set when the NGOM Set-Aside is above 800,000 lb (362,874 kg).

* * * * *

[FR Doc. 2025-04276 Filed 3-14-25; 11:15 am]

BILLING CODE 3510-22-P